DEPARTMENT OF TRANSPORTATION

Federal Highway Administration

Notice of Final Federal Agency Actions on Transportation Project in Nebraska

AGENCY: Federal Highway Administration (FHWA), Department of Transportation (DOT).

ACTION: Notice of limitation on claims for judicial review.

SUMMARY: This notice announces actions taken by the FHWA, on behalf of the Nebraska Department of Transportation, that are final. The action(s) relate to the Central City Viaduct Project, located in the Central City, Merrick County, Nebraska. Those actions grant licenses, permits, and approvals for the project. The project will construct a portion of N-14 on a new alignment from US-30 halfway between 14th Avenue and 13th Avenue, proceeding north crossing over the Union Pacific Railroad (UPRR) and then proceeding west to connect back to existing N-14 at 10th Street. A 580-foot-long viaduct will be constructed over the UPRR. The two existing at-grade UPRR crossings at N-14/17th Avenue and 13th Street will be closed. The FHWA's National Environmental Policy Act (NEPA) Finding of No Significant Impact (FONSI) provides details on the Selected Alternative for the proposed improvements.

DATES: A claim seeking judicial review of the Federal agency actions on the listed highway project will be barred unless the claim is filed on or before February 2, 2026. If the Federal law that authorizes judicial review of a claim provides a time period of less than 150 days for filing such claim, then that shorter time period still applies.

FOR FURTHER INFORMATION CONTACT:

For FHWA: James Simerl, Acting Division Administrator, Federal Highway Administration, 100 Centennial Mall North, Room 220, Lincoln, NE 68508, (402) 742-8460, james.simerl@dot.gov.

For NDOT: Kyle Keller, Project Development Engineer, 1500 Nebraska Parkway, Lincoln, NE 68502-4759, (402) 479-4795, kyle.keller@nebraska.gov.

SUPPLEMENTARY INFORMATION: Notice is hereby given that FHWA has taken final agency actions within the meaning of 23 U.S.C. 139(l)(1) by issuing a NEPA FONSI for the Central City Viaduct Project, located in the Central City, Merrick County, Nebraska. The action(s) by FHWA, and the laws under which such actions were taken, are described in the FONSI and the associated agency records. That information is available by contacting FHWA at the addresses provided above.

The purpose of this project is to eliminate conflicts between trains and vehicles at the existing N-14 at-grade UPRR crossing, reduce traffic congestion and associated delays at the N-14 crossing of the UPRR tracks and at the intersection with US-30, and improve operations and reduce crash costs associated with the N-14 and US-30 intersection. A FONSI for the project was signed on May 9, 2025.

Information about the FONSI and associated records are available from FHWA at the addresses provided above and can be found at: https://dot.nebraska.gov/projects/environment/environmental-documents/, or obtained by contacting the individuals listed above. This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (Section 319, Section 401, Section 402, Section 404) [33 U.S.C. 1251-1377]. Safe Drinking Water Act [42 U.S.C. 300(f) et seq.].

8. Executive Orders: Executive Order 11990 Protection of Wetlands; Executive Order 11988 Floodplain Management; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13045 Protection of Children From Environmental Health Risks and Safety Risks.

(Authority: 23 U.S.C. 139(l)(1).)

James Simerl,
FHWA Acting Division Administrator, Lincoln, NE.

[FR Doc. 2025-17077 Filed 9-4-25; 8:45 am]

BILLING CODE 4910-RY-P